DEPARTMENT OF COMMERCE

United States Patent and Trademark Office

Admission To Practice and Roster of Registered Patent Attorneys and Agents Admitted To Practice Before the United States Patent and Trademark Office (USPTO)

ACTION: Notice.

SUMMARY: The United States Patent and Trademark Office (USPTO), as part of its continuing effort to reduce paperwork and respondent burden, invites the general public and other Federal agencies to take this opportunity to comment on the continuing information collection, as required by the Paperwork Reduction Act of 1995, Public Law 104-13 (44 U.S.C. 3506(c)(2)(A)).

DATES: Written comments must be submitted on or before August 29, 2014.

ADDRESSES: You may submit comments by any of the following methods:

• Email: InformationCollection@uspto.gov. Include “0651-0012 comment” in the subject line of the message.

• Mail: Susan K. Fawcett, Records Officer, Office of the Chief Information Officer, United States Patent and Trademark Office, P.O. Box 1450, Alexandria, VA 22313-1450.

• Federal Rulemaking Portal: http://www.regulations.gov.

FOR FURTHER INFORMATION CONTACT: Requests for additional information should be directed to Dahlia George, Office of Enrollment and Discipline, United States Patent and Trademark Office, Mail Stop OED, P.O. Box 1450, Alexandria, VA 22313-1450; by telephone at 571-272-4097; or by email to Dahlia.George@uspto.gov. Additional information about this collection is also available at http://www.reginfo.gov under “Information Collection Review.”

SUPPLEMENTARY INFORMATION:

I. Abstract

This collection of information is required by 35 U.S.C. 2(b)(2)(D), which permits the United States Patent and Trademark Office (USPTO) to establish regulations governing the recognition and conduct of agents, attorneys or other persons representing applicants or other parties before the USPTO. This statute also permits the USPTO to require information from applicants that shows that they are of good moral character and reputation and have the necessary qualifications to assist applicants with the patent process and to represent them before the USPTO.

The USPTO administers the statute through 37 CFR 1.21, 10.14 and 11.5 through 11.12. These rules address the requirements to apply for the examination for registration and to demonstrate eligibility to be a registered attorney or agent before the USPTO, including the fee requirements. The Office of Enrollment and Discipline (OED) collects information to determine the qualifications of individuals entitled to represent applicants before the USPTO in the preparation and prosecution of applications for a patent. The OED also collects information to administer and maintain the roster of attorneys and agents registered to practice before the USPTO. Information concerning registered attorneys and agents is published by the OED in a public roster that can be accessed through the USPTO Web site.

The information in this collection is used by the USPTO to review applications for the examination for registration and to determine whether an applicant may be added to, or an existing practitioner may remain on, the Register of Patent Attorneys and Agents.

II. Method of Collection

By mail to the USPTO when the individual desires to participate in the information collection except for the Change of Address which will be collected electronically.

III. Data

OMB Number: 0651-0012.

Form Number(s): PTO-158, PTO-158A, PTO/275, PTO-107A, PTO-1209, PTO-2126, PTO-2149 and PTO-2150. Two new forms are being introduced into the collection are PTO-158T and PTO-158LS.

Type of Review: Revision of a currently approved collection.

Affected Public: Businesses or other for-profits.

Estimated Number of Respondents: 25,855 responses per year.

Estimated Time Per Response: The USPTO estimates that it will take the public approximately 1 minute (0.01667 hours) to 40 hours, depending upon the respondents needs, to gather, prepare, and submit the various documents in this information collection.

Estimated Total Annual Respondent Burden Hours: 34,530 hours.

Estimated Total Annual Respondent Cost Burden: $2,603,170. The cost to respondents for taking the registration examination is estimated to be at the rate of $39 per hour, for a cost burden of $1,206,660. The USPTO estimates that the remaining items in this collection will be prepared by attorneys in private firms. Using the professional hourly rate of $389 for attorneys in private firms, the USPTO estimates $1,396,510 per year in respondent cost burden associated with the remaining items in this information collection.

Item # | Item | Estimated time for response (minutes) | Estimated annual responses | Rate | Estimated annual burden hours
1 | Application for Registration to Practice Before the United States Patent and Trademark Office (includes both the computerized exam and the USPTO-administered exam) PTO-158 | 30 | 4,420 | 389.00 | 2,210
1 | Application for Registration to Practice Before the United States Patent and Trademark Office (former examiners; examination waived) PTO-158 | 30 | 100 | 389.00 | 50
2 | Application for Registration to Practice Before the United States Patent and Trademark Office Under 37 CFR 11.6(c) by a Foreign Resident (examination waived) PTO-158A | 30 | 100 | 389.00 | 50
3 | Application for Reciprocal Recognition to Practice in Trademark Matters Before the United States Patent and Trademark Office Under 37 CFR 11.14(c) by a Foreign Attorney or Agent (examination waived) PTO-158T | 30 | 25 | 389.00 | 12.5
4 | Application for Registration in the USPTO Law School Program for Law Students to Practice Before the United States Patent and Trademark Office Under 37 CFR 11.14(c) (examination waived) (Law School students only) PTO-158LS | 30 | 60 | 389.00 | 30
5 | Registration Examination to Become a Registered Practitioner | 420 | 4,420 | 39.00 | 30,940
6 | Undertaking under 37 CFR 11.10(b) PTO-275 | 20 | 520 | 389.00 | 173.3333
7 | Data Sheet—Register of Patent Attorneys and Agents (individuals passing the registration exam) PTO-107A | 10 | 1,995 | 389.00 | 332.5
7 | Data Sheet—Register of Patent Attorneys and Agents (foreign applicants) PTO-107A | 10 | 100 | 389.00 | 16.6667
7 | Data Sheet—Register of Patent Attorneys and Agents (former examiners seeking registration) PTO-107A | 10 | 100 | 389.00 | 16.6667
8 | Oath or Affirmation. PTO-1209 | 5 | 2,195 | 389.00 | 182.9166
9 | Reinstatement to the Register. PTO-107R | 10 | 30 | 389.00 | 5
10 | Written request for reconsideration and further review of disapproval notice of application | 90 | 30 | 389.00 | 45
11 | Cover pages used for submitting correspondence to OED (for documents submitted with applications, requests for reconsideration, and petitions) | 1 | 7,500 | 389.00 | 125
12 | Change of address | 2 | 4,200 | 389.00 | 140
13 | Petition for reinstatement after disciplinary removal under 37 CFR 11.7(h) | 2,400 | 4 | 389.00 | 160
14 | Practitioner's supporting documentation for a motion to hold in abeyance a disciplinary proceeding because of a current disability or addiction | 2,400 | 1 | 389.00 | 40
Totals |  |  | 25,800 |  | 34,530

Estimated Total Annual Non-hour Respondent Cost Burden: $1,538,386.14. There are no capital start-up or maintenance costs associated with this information collection. There are, however, non-hour costs due to recordkeeping requirements, filing fees, and postage costs.

There are recordkeeping costs as a result of the Oath which includes a notary public requirement. The average fee for having a document notarized is $2. The USPTO estimates that it will receive 2,195 responses to this information collection per year as a result of this notary requirement, for a total cost of $4,390 per year. Also, there is another recordkeeping cost being added into the collection. The General Requirements Bulletin recommends that “applicants should make and keep a copy of every document submitted to the office in connection with an application for registration.” The USPTO estimates that it will take an applicant approximately 5 (0.0833 hours) to print and retain a copy of the submissions and that approximately 4,700 responses will be made per year, for a total of 391.6667 hours. Using the professional rate of $389 per hour for attorneys in private firms, the USPTO estimates that the record keeping cost associated with this copy requirement will be $152,358.34 per year, for a total recordkeeping cost of $156,748.34.

There are also filing fees associated with this collection. The application fees for registration to practice before the USPTO vary depending on whether the applicant is a current applicant, a former examiner, or a foreign resident, or seeking reinstatement to the Register to become active upon leaving the USPTO. The fee for administration of the computerized examination to become a registered patent practitioner also varies depending on how the examination is administered. The total annual non-hour cost burden associated with filing fees is $1,377,636.60.

| Item | Responses (yr) | Filing fee ($) | Total non-hour cost burden ($/hr)
|  | (a) | (b) | (a) (b) × (c)
ITEMS FOR WHICH FEES CURRENTLY ARE COLLECTED
1 | Non-Refundable Application Fee for Registration to Practice Before the United States Patent and Trademark Office (includes both the computerized exam and the USPTO-administered exam). PTO-158 | 4,420 | 40.00 | 176,800.00
1 | Application Fee for Registration to Practice Before the United States Patent and Trademark Office, as applicable when used for registration fees only (former examiners; examination waived). PTO-158 | 100 | 40.00 | 4,000.00
2 | Application Fee for Registration to Practice Before the United States Patent and Trademark Office, as applicable when used for registration fees only (former examiners; examination waived). PTO-158A | 100 | 40.00 | 4,000.00
3 | Application Fee for Reciprocal Recognition to Practice in Trademark Matters Before the United States Patent and Trademark Office Under 37 CFR 11.14(c) by a Foreign Attorney/Agent (examination waived). PTO-158T | 25 | 40.00 | 1,000.00
4 | Application for Registration in the USPTO Law School Program for Law Students to Practice Before the United States Patent and Trademark Office Under 37 CFR 11.14(c) (examination waived; Law School students only). PTO-158LS | 60 | 0.61 | 36.60
5 | Registration examination fee for administration of computerized examination to become a registered patent practitioner administered by the USPTO (USPTO-administered exam) | 20 | 450.00 | 9,000.00
15 | Registration examination fee for administration of computerized examination to become a registered patent practitioner administered by a commercial entity (computer exam) | 4,400 | 200.00 | 880,000.00
6 | Undertaking under 37 CFR 11.10(b). PTO-275 | 520 | 0.00 | 0.00
17 | Data Sheet—Register of Patent Attorneys and Agents (individuals passing the registration exam). PTO-107A | 1,995 | 100.00 | 199,500.00
7 | Data Sheet—Register of Patent Attorneys and Agents (foreign applicants). PTO-107A | 100 | 100.00 | 10,000.00
7 | Data Sheet—Register of Patent Attorneys and Agents (former examiners seeking registration). PTO-107A | 100 | 100.00 | 10,000.00
8 | Oath or Affirmation. PTO-1209 | 2,195 | 0.00 | 0.00
9 | Reinstatement to the Register. PTO-107A | 30 | 100.00 | 3,000.00
10 | Written request for reconsideration and further review of disapproval notice of application | 30 | 130.00 | 3,900.00
11 | Cover pages used for submitting correspondence to OED (for documents submitted with applications, requests for reconsideration, and petitions) | 7,500 | 0.00 | 0.00
12 | Change of address | 4,200 | 0.00 | 0.00
13 | Petition to the Director of the Office of Enrollment and Discipline under 11.12(c) | 20 | 130.00 | 2,600.00
13 | Petition for reinstatement after disciplinary removal under 37 CFR 11.7(h) | 4 | 1,600.00 | 6,400.00
13 | Non-Refundable Application Fee for Enrollment and/or Reinstatement to Practice Before the United States Patent and Trademark Office under 37 CFR 1.21(a)(10) (those who must prove fitness to practice) | 35 | 1,600.00 | 56,000.00
14 | Practitioner's supporting documentation for a motion to hold in abeyance a disciplinary proceeding because of a current disability or addiction | 1 | 11,400.00 | 11,400.00
Total |  | 25,855 |  | $1,377,636.60

The General Requirements Bulletin for Admission to the Examination for Registration to Practice in Patent Cases before the USPTO states that all business with the USPTO should be transacted in writing. The actions of the OED will be based exclusively on the written record in the USPTO (37 CFR 1.2). Personal attendance is unnecessary. All documents may be submitted to the USPTO by first-class mail through the United States Postal Service. Mailed submissions may include a certificate of mailing for each piece of correspondence enclosed, stating the date of deposit or transmission to the USPTO. The USPTO estimates that the average first-class postage cost for responses to this collection will vary from $0.49 cents for one ounce to $4.80 for one pound, depending on the individual submission. The total annual non-hour cost burden associated with postage costs is $4,001.20.

| Item | Responses | Postage Fee ($) | Total non-hour cost burden
|  | (a) | (b) | (a) × (b) (c)
ITEMS FOR WHICH POSTAGE FEES CURRENTLY ARE COLLECTED
1 | Non-Refundable Application Fee for Registration to Practice Before the United States Patent and Trademark Office (includes both the computerized exam and the USPTO-administered exam). PTO-158 | 4,420 | $0.61 | 2,696.20
1 | Application Fee for Registration to Practice Before the United States Patent and Trademark Office, as applicable when used for registration fees only (former examiners; examination waived). PTO-158 | 100 | 0.61 | 61.00
2 | Application Fee for Registration to Practice Before the United States Patent and Trademark Office, as applicable when used for registration fees only (former examiners; examination waived). PTO-158A | 100 | 0.49 | 49.00
3 | Application Fee for Reciprocal Recognition to Practice in Trademark Matters Before the United States Patent and Trademark Office Under 37 CFR 11.14(c) by a Foreign Attorney/Agent (examination waived). PTO-158T | 25 | 0.61 | 15.25
4 | Application for Registration in the USPTO Law School Program for Law Students to Practice Before the United States Patent and Trademark Office Under 37 CFR 11.14(c) (examination waived; Law School students only). PTO-158LS | 60 | 0.61 | 36.60
5 | Registration examination fee for administration of computerized examination to become a registered patent practitioner administered by the USPTO (USPTO-administered exam) | 20 | 0.00 | 0.00
5 | Registration examination fee for administration of computerized examination to become a registered patent practitioner administered by a commercial entity (computer exam) | 4,400 | 0.00 | 0.00
6 | Undertaking under 37 CFR 11.10(b). PTO-275 | 520 | 0.00 | 0.00
7 | Data Sheet—Register of Patent Attorneys and Agents (individuals passing the registration exam). PTO-107A | 1,995 | 0.49 | 977.55
7 | Data Sheet—Register of Patent Attorneys and Agents (foreign applicants). PTO-107A | 100 | 0.49 | 49.00
7 | Data Sheet—Register of Patent Attorneys and Agents (former examiners seeking registration). PTO-107A | 100 | 0.49 | 49.00
8 | Oath or Affirmation. PTO-1209 | 2,195 | 0.00 | 0.00
9 | Reinstatement to the Register. PTO-107A | 30 | 0.49 | 14.70
10 | Written request for reconsideration and further review of disapproval notice of application | 30 | 0.61 | 18.30
11 | Cover pages used for submitting correspondence to OED (for documents submitted with applications, requests for reconsideration, and petitions) | 7,500 | 0.00 | 0.00
12 | Change of address | 4,200 | 0.00 | 0.00
13 | Petition to the Director of the Office of Enrollment and Discipline under 11.12(c) | 20 | 1.73 | 34.60
13 | Petition for reinstatement after disciplinary removal under 37 CFR 11.7(h) | 4 | 0.00 | 0.00
13 | Non-Refundable Application Fee for Enrollment and/or Reinstatement to Practice Before the United States Patent and Trademark Office under 37 CFR 1.21(a)(10) (those who must prove fitness to practice) | 35 | 0.00 | 0.00
14 | Practitioner's supporting documentation for a motion to hold in abeyance a disciplinary proceeding because of a current disability or addiction | 1 | 0.00 | 0.00
Total |  | 25,855 |  | 4,001.20

The USPTO estimates that the total (non-hour) respondent cost burden for this collection in the form of recordkeeping costs, filing fees, and postage costs is $1,538,386.14.

IV. Request for Comments

Comments submitted in response to this notice will be summarized and/or included in the request for OMB approval. All comments will become a matter of public record.

The USPTO is soliciting public comments to: (a) Evaluate whether the proposed collection of information is necessary for the proper performance of the functions of the agency, including whether the information will have practical utility; (b) Evaluate the accuracy of the agency's estimate of the burden of the proposed collection of information, including the validity of the methodology and assumptions used; (c) Enhance the quality, utility, and clarity of the information to be collected; and (d) Minimize the burden of the collection of information on those who are to respond, including through the use of appropriate automated, electronic, mechanical, or other technological collection techniques or other forms of information technology, e.g., permitting electronic submission of responses.

Dated: June 25, 2014.
Susan K. Fawcett,
Records Officer, USPTO, Office of the Chief Information Officer.

[FR Doc. 2014-15217 Filed 6-27-14; 8:45 am]

BILLING CODE 3510-16-P